DEPARTMENT OF VETERANS AFFAIRS

38 CFR Part 17

RIN 2900-AM59

Elimination of Co-Payment for Weight Management Counseling

AGENCY: Department of Veterans Affairs.

ACTION: Direct final rule; confirmation of effective date.

SUMMARY: The Department of Veterans Affairs (VA) published a direct final rule amending our medical regulations to designate weight management counseling (individual and group sessions) as a service that is not subject to VA's co-payment requirements. VA received no significant adverse comments concerning this rule or its companion substantially identical proposed rule published on the same date. This document confirms that the direct final rule became effective on June 16, 2008. In a companion document in this issue of the Federal Register, we are withdrawing as unnecessary that proposed rule.

DATES: Effective date: June 16, 2008.

FOR FURTHER INFORMATION CONTACT: Tony Guagliardo, Director, Business Policy, Chief Business Office (16), Veterans Health Administration, 810 Vermont Avenue, NW., Washington, DC 20420, (202) 461-1591 (this is not a toll-free number).

SUPPLEMENTARY INFORMATION: In a direct final rule published in the Federal Register on April 16, 2008 (73 FR 20530), VA amended the medical regulations set forth at 38 CFR part 17 to eliminate co-payments for weight management counseling (individual and group sessions). VA published a companion substantially identical proposed rule (RIN 2900-AM81; 73 FR 20579) on the same date to serve as a proposal for the provisions in the direct final rule in case significant adverse comments were received. The direct final rule and proposed rule each provided a 30-day comment period that ended May 16, 2008. No adverse comments were received. Two public comments were received, both of which supported the proposed rule.

Under the direct final rule procedures that we described in those documents, because no significant adverse comment was received within the comment period, the regulation became effective on the date specified in the direct final rule, June 16, 2008. In a companion document in this issue of the Federal Register, VA is withdrawing the proposed rule (RIN 2900-AM81) published at 73 FR 20579 as unnecessary.

Approved: October 27, 2008.
Gordon H. Mansfield,
Deputy Secretary of Veterans Affairs.

[FR Doc. E8-26177 Filed 10-31-08; 8:45 am]

BILLING CODE 8320-01-P